DEPARTMENT OF HOMELAND SECURITY

National Communications System

Telecommunications Service Priority System Oversight Committee

AGENCY: National Communications System (NCS).

ACTION: Notice of meeting cancellation.

The November 9, 2004 meeting of the Telecommunications Service Priority (TSP) System Oversight Committee has been cancelled and will be rescheduled at a later date to be determined.

FOR FURTHER INFORMATION CONTACT: Susan Flint, Office of Priority Telecommunications, (703) 607-4932. Media or press must contact Mr. Steve Barrett at (703) 607-6211.

Peter M. Fonash,
Certifying Officer.

[FR Doc. 04-24505 Filed 11-2-04; 8:45 am]

BILLING CODE 4410-10-M